DEPARTMENT OF ENERGY

Idaho Operations Office; Notice of availability of solicitation for Awards of Financial Assistance

AGENCY: Idaho Operations Office, DOE.

ACTION: Notice of availability of solicitation, University Reactor Instrumentation (URI) Program.

SUMMARY: The U.S. Department of Energy, Idaho Operations Office, is soliciting applications for special research grant awards that will upgrade and improve U.S. nuclear research and training reactors. It is anticipated that on October 4, 2000, a full text for Solicitation Number DE-PS07-01ID14012 for the 2001 URI Program will be made available on the Internet at URL address: http://www.id.doe.gov/doeid/psd/proc-div.html. The deadline for receipt of applications will be on December 5, 2000.

ADDRESSES: Applications should be submitted to: U.S. Department of Energy, Idaho Operations Office, c/o Marie Warnick, P.O. Box 1625, Mail Stop 3860, Idaho Falls, Idaho 83415-3860.

FOR FURTHER INFORMATION CONTACT: Connie Osborne, Contract Specialist at osbornch@id.doe.gov.

SUPPLEMENTARY INFORMATION: The solicitation will be issued in accordance with 10 CFR Part 600.6(b), eligibility for awards under this program will be restricted to U.S. colleges and universities having a duly licensed, operating nuclear research or training reactor because the purpose of the University Reactor Instrumentation (URI) program is to upgrade and improve the U.S. university nuclear research and training reactors and to contribute to strengthening the academic community's nuclear engineering infrastructure.

The statutory authority for this program is Public Law 95-91.

Issued in Idaho Falls on October 4, 2000.
R. Jeffrey Hoyles,
Director, Procurement Services Division.

[FR Doc. 00-26026 Filed 10-10-00; 8:45 am]

BILLING CODE 6450-01-P